DEPARTMENT OF THE TREASURY

Internal Revenue Service

26 CFR Part 1

[TD 9475]

RIN 1545-BF83

Corporate Reorganizations; Distributions Under Sections 368(a)(1)(D) and 354(b)(1)(B); Correction

AGENCY: Internal Revenue Service (IRS), Treasury.

ACTION: Correction to final regulations.

SUMMARY: This document contains corrections to final regulations (TD 9475) that were published in the Federal Register on Friday, December 18, 2009 (74 FR 67053) providing guidance regarding the qualification of certain transactions as reorganizations described in section 368(a)(1)(D) where no stock and/or securities of the acquiring corporation is issued and distributed in the transaction.

DATES: This correction is effective on January 20, 2010, and is applicable on December 18, 2009.

FOR FURTHER INFORMATION CONTACT: Bruce A. Decker, (202) 622-7790 (not a toll-free number).

SUPPLEMENTARY INFORMATION:

Background

The final regulations (TD 9475) that are the subject of this document are under sections 358, 368 and 1502 of the Internal Revenue Code.

Need for Correction

As published, the final regulations (TD 9475) contain errors that may prove to be misleading and are in need of clarification.

Correction of Publication

Accordingly, the publication of the final regulations (TD 9475), which were the subject of FR Doc. E9-30170, is corrected as follows:

1. On page 67054, column 1, in the preamble, under the paragraph heading “Background”, line 12 from the bottom of the column, the language “transaction if the same persons or” is removed and replaced with the language “transaction if the same person or” in its place.

2. On page 67055, column 2, in the preamble, under the paragraph heading “Issuance of Nominal Share”, line 9 from the bottom of the third paragraph of the column, the language “the rule that if the same persons or” is removed and replaced with the language “the rule that if the same person or” in its place.

Guy R. Traynor,
Acting Chief, Publications and Regulations Branch, Legal Processing Division, Associate Chief Counsel, Procedure and Administration.

[FR Doc. 2010-869 Filed 1-19-10; 8:45 am]

BILLING CODE 4830-01-P